DEPARTMENT OF ENERGY

Federal Energy Regulatory Commission

Combined Notice of Filings #2

Take notice that the Commission received the following electric corporate filings:

Docket Numbers: EC17-145-000.

Applicants: Cimarron Windpower II, LLC.

Description: Application for Authorization Under Section 203 of the Federal Power Act of Cimarron Windpower II, LLC.

Filed Date: 8/1/17.

Accession Number: 20170801-5117.

Comments Due: 5 p.m. ET 8/22/17.

Docket Numbers: EC17-146-000.

Applicants: Dighton Power, LLC, Milford Power, LLC, Marco DM Holdings, L.L.C.

Description: Joint Application for Authorization under Section 203 of the Federal Power Act of Dighton Power, LLC, et al.

Filed Date: 8/1/17.

Accession Number: 20170801-5176.

Comments Due: 5 p.m. ET 8/22/17.

Take notice that the Commission received the following electric rate filings:

Docket Numbers: ER17-2214-000.

Applicants: Great Valley Solar 2, LLC.

Description: Initial rate filing: Great Valley Solar 2, LLC Certificate of Concurrence to Shared Facilities Agmt to be effective 10/1/2017.

Filed Date: 8/1/17.

Accession Number: 20170801-5106.

Comments Due: 5 p.m. ET 8/22/17.

Docket Numbers: ER17-2215-000.

Applicants: Great Valley Solar 2, LLC.

Description: Initial rate filing: Great Valley Solar 2, LLC Certificate of Concurrence to LGIA Co-Tenancy Agmt to be effective 10/1/2017.

Filed Date: 8/1/17.

Accession Number: 20170801-5108.

Comments Due: 5 p.m. ET 8/22/17.

Docket Numbers: ER17-2216-000.

Applicants: Southwest Power Pool, Inc.

Description: § 205(d) Rate Filing: 2014 Southwestern Power Administration Amendatory Agreement Seventh Extension to be effective 10/1/2017.

Filed Date: 8/1/17.

Accession Number: 20170801-5157.

Comments Due: 5 p.m. ET 8/22/17.

Docket Numbers: ER17-2217-000.

Applicants: PJM Interconnection, L.L.C.

Description: Tariff Cancellation: Notice of Cancellation of Original Service Agreement No. 4695, Queue No. AB2-061 to be effective 7/11/2017.

Filed Date: 8/1/17.

Accession Number: 20170801-5172.

Comments Due: 5 p.m. ET 8/22/17.

Take notice that the Commission received the following foreign utility company status filings:

Docket Numbers: FC17-5-000.

Applicants: Aspa Energias Renovables, S.L.U.

Description: Self-Certification of FC of Aspa Energias Renovables, S.L.U., et al.

Filed Date: 8/1/17.

Accession Number: 20170801-5148.

Comments Due: 5 p.m. ET 8/22/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 1, 2017.
Nathaniel J. Davis, Sr.,
Deputy Secretary.

[FR Doc. 2017-16546 Filed 8-4-17; 8:45 am]

BILLING CODE 6717-01-P